DEPARTMENT OF COMMERCE

International Trade Administration

[A-489-807]

Certain Steel Concrete Reinforcing Bars From Turkey; Preliminary Results and Partial Rescission of Antidumping Duty Administrative Review and Notice of Intent Not To Revoke in Part

AGENCY: Import Administration, International Trade Administration, Department of Commerce.

SUMMARY: In response to a request by the petitioner and one producer/exporter of the subject merchandise, the Department of Commerce (the Department) is conducting an administrative review of the antidumping duty order on certain steel concrete reinforcing bars (rebar) from Turkey. This review covers three manufacturers/exporters of the subject merchandise to the United States. This is the fifth period of review (POR), covering April 1, 2002, through March 31, 2003.

We have preliminarily determined that sales have been made below the normal value by only one of the respondents in this proceeding, Colakoglu Metalurji A.S. (Colakoglu). In addition, we have preliminarily determined to rescind the review with respect to the following companies because these companies had no shipments of subject merchandise during the POR: Cebitas Demir Celik Endustrisi A.S. (Cebitas), Cemtas Celik Makina Sanayi ve Ticaret A.S. (Cemtas), Demirsan Haddecilik Sanayi ve Ticaret A.S. (Demirsan), Ege Celik Endustrisi Sanayi ve Ticaret A.S. (Ege Celik), Ekinciler Holding A.S. and Ekinciler Demir Celik San A.S. (collectively “Ekinciler”), Habas Sinai ve Tibbi Gazlar Istihsal Endustrisi A.S. (Habas), Iskenderun Iron & Steel Works Co. (Iskenderun), Izmir Demir Celik Sanayi A.S. (Izmir), Kaptan Demir Celik Endustrisi ve Ticaret A.S. (Kaptan), Kardemir—Karabuk Demir Celik Sanayi ve Ticaret A.S. (Karabuk), Kroman Celik Sanayi A.S. (Kroman), Metas Izmir Metalurji Fabrikasi Turk A.S. (Metas), Nurmet Celik Sanayi ve Ticaret A.S. (Nurmet), Nursan Celik Sanayi ve Haddecilik A.S. (Nursan), Sivas Demir Celik Isletmeleri A.S. (Sivas), Tosyali Demir Celik Sanayi A.S. (Tosyali), and Ucel Haddecilik Sanayi ve Ticaret A.S. (Ucel). If these preliminary results are adopted in the final results of this review, we will instruct Customs and Border Protection (CBP) to assess antidumping duties on all appropriate entries.

Finally, we have preliminarily determined not to revoke the antidumping duty order with respect to ICDAS Celik Enerji Tersane ve Ulasim Sanayi, A.S. (ICDAS).

We invite interested parties to comment on these preliminary results. Parties who wish to submit comments in this proceeding are requested to submit with each argument: (1) A statement of the issue; and (2) a brief summary of the argument.

EFFECTIVE DATE: May 5, 2004.

FOR FURTHER INFORMATION CONTACT: Irina Itkin or Elizabeth Eastwood, Office of AD/CVD Enforcement, Office 2, Import Administration, International Trade Administration, U.S. Department of Commerce, 14th Street and Constitution Avenue, NW., Washington, DC 20230; telephone (202) 482-0656 or (202) 482-3874, respectively.

Background

On April 1, 2003, the Department published in the Federal Register a notice of “Opportunity To Request Administrative Review” of the antidumping duty order on rebar from Turkey (68 FR 15704).

In accordance with 19 CFR 351.213(b)(2), on April 30, 2003, the Department received a request from ICDAS to conduct an administrative review of the antidumping duty order on rebar from Turkey. As part of this request, ICDAS also requested that the Department revoke the dumping order with regard to it, in accordance with 19 CFR 351.222(b). In accordance with 19 CFR 351.213(b)(1), on April 30, 2002, the Department also received a request for an administrative review from the petitioners, Gerdau AmeriSteel Corporation, Commercial Metals Company (SMI Steel Group), and Nucor Corporation, for the following 22 producers/exporters of rebar: Cebitas, Cemtas, Colakoglu, Demirsan, Diler Demir Celik Endustrisi ve Ticaret A.S., Yazici Demir Celik Sanayi ve Ticaret A.S. and Diler Dis Ticaret A.S. (collectively “Diler”), Ege Celik, Ege Metal Demir Celik Sanayi ve Ticaret A.S. (Ege Metal), Ekinciler, Habas, ICDAS, Iskenderun, Izmir, Kaptan, Karabuk, Kroman, Kurum Demir Sanayi ve Ticaret Metalenerji A.S. (Kurum), Metas, Nurmet, Nursan, Sivas, Tosyali, and Ucel.

In May 2003, the Department initiated an administrative review for each of these companies and issued questionnaires to them. See Initiation of Antidumping and Countervailing Duty Administrative Reviews and Request for Revocation in Part, 68 FR 27781 (May 21, 2003).

In May and June 2003, the following companies informed the Department that they had no shipments or entries of subject merchandise during the POR: Cebitas, Cemtas, Demirsan, Ege Celik, Ekinciler, Habas, Iskenderun, Izmir, Kaptan, Karabuk, Kroman, Metas, Nurmet, Nursan, Sivas, Tosyali, and Ucel. We reviewed CBP data and confirmed that there were no entries of subject merchandise from any of these companies except Habas. We also confirmed with CBP data that Ege Metal and Kurum did not have shipments or entries of subject merchandise during the POR. Consequently, in accordance with 19 CFR 351.213(d)(3) and consistent with our practice, we are preliminarily rescinding our review for Cebitas, Cemtas, Demirsan, Ege Celik, Ege Metal, Ekinciler, Iskenderun, Izmir, Kaptan, Karabuk, Kroman, Kurum, Metas, Nurmet, Nursan, Sivas, Tosyali, and Ucel.

Regarding Habas, CBP information indicates that there were entries of subject merchandise produced by Habas during the POR. Based on this information, we asked Habas to explain the circumstances surrounding these entries. Habas responded that this merchandise had been sold to an unaffiliated customer in a third country who then exported this merchandise to the United States, and it provided documentation to support its claim that it did not have knowledge that this merchandise was destined for the United States. We therefore find that Habas did not have any reviewable entries during this POR. Accordingly, we are rescinding our review for Habas. For further discussion, see the “Partial Rescission of Review” section of this notice, below.

In June 2003 Colakoglu, Diler and ICDAS requested that the Department modify its reporting requirements with respect to their home market sales, in light of the fact that these respondents only made U.S. sales in certain months of the POR. We granted Colakoglu's and Diler's requests on June 10, 2003, and ICDAS' request on June 30, 2003.

In July 2003 we received responses to sections A through C of the questionnaire (i.e., the sections regarding sales to the home market and the United States) and Section D of the questionnaire (i.e., the section regarding cost of production (COP) and constructed value (CV)) from Colakoglu, Diler, and ICDAS.

In July, August, and September 2003, we issued supplemental questionnaires to each of the participating respondents. We received responses to these questionnaires in August, September, and October 2003.

On October 8, 2003, the Department postponed the preliminary results of this review until no later than April 29, 2004. See Certain Steel Concrete Reinforcing Bars From Turkey; Notice of Extension of Time Limits for Preliminary Results in Antidumping Duty Administrative Review, 68 FR 59368 (Oct. 15, 2003).

In January 2004, we issued an additional cost supplemental questionnaire to ICDAS. We received a response to this questionnaire in February 2004. We verified the sales and cost information submitted by ICDAS in January and February 2004. Also, in February and March 2004, we requested and received revised databases from ICDAS incorporating our findings at verification.

In March 2004, we issued an additional supplemental questionnaire to Diler. We received a response to this questionnaire in March 2004.

Scope of the Review

The product covered by this review is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Period of Review

The POR is April 1, 2002, through March 31, 2003.

Partial Rescission of Review

As noted above, Cebitas, Cemtas, Demirsan, Ege Celik, Ekinciler, Habas, Iskenderun, Izmir, Kaptan, Karabuk, Kroman, Metas, Nurmet, Nursan, Sivas, Tosyali, and Ucel informed the Department that they had no shipments of subject merchandise to the United States during the POR. We have confirmed this with CBP. Therefore, in accordance with 19 CFR 351.213(d)(3) and consistent with the Department's practice, we are preliminarily rescinding our review with respect to these companies. See, e.g., Certain Steel Concrete Reinforcing Bars From Turkey; Final Results, Rescission of Antidumping Duty Administrative Review in Part, and Determination Not To Revoke in Part, 68 FR 53127, 53128 (Sept. 9, 2003) (2001-2002 Rebar Review). We have also confirmed with CBP that neither Ege Metal nor Kurum had shipments of subject merchandise during the POR. Therefore, in accordance with 19 CFR 351.213(d)(3) and consistent with the Department's practice, we are preliminarily rescinding our review with respect to Ege Metal and Kurum.

Regarding Habas, as noted above, we found that certain shipments of subject merchandise produced by this company entered the United States during the POR. On October 15, 2003, we requested that Habas explain these shipments, in light of its claim that it had none during the POR. On November 3, 2003, Habas informed the Department that it did not have knowledge that these shipments were destined for the United States because they were made by an unaffiliated customer. Habas also provided documentation to support its claim. Consequently, in accordance with 19 CFR 351.213(d)(3) and consistent with our practice, we are preliminarily rescinding our review with respect to Habas.

Notice of Intent Not To Revoke in Part

On April 30, 2003, ICDAS submitted a letter to the Department requesting revocation of the antidumping duty order with respect to its sales of the subject merchandise, pursuant to 19 CFR 351.222(b).

The Department “may revoke, in whole or in part” an antidumping duty order upon completion of a review under section 751 of the Tariff Act of 1930, as amended (the Act). While Congress has not specified the procedures that the Department must follow in revoking an order, the Department has developed a procedure for revocation that is described in 19 CFR 351.222. 19 CFR 351.222(b)(2) notes that the Secretary may revoke an antidumping duty order in part if the Secretary concludes, inter alia, that one or more exporters or producers covered by the order have sold the subject merchandise in commercial quantities at not less than normal value (NV) for a period of at least three consecutive years. See Notice of Final Results of the Antidumping Duty Administrative Review and Determination Not to Revoke the Antidumping Duty Order: Brass Sheet and Strip from the Netherlands, 65 FR 742, 743 (Jan. 6, 2000).

ICDAS's request was accompanied by a certification that it has sold the subject merchandise at not less that NV during the current POR and will not sell the merchandise at less than NV in the future. ICDAS further certified that it sold the subject merchandise to the United States in commercial quantities for a period of at least three consecutive years.¹ The company also agreed to immediate reinstatement of the antidumping duty order, as long as any exporter or producer is subject to the order, if the Department concludes that, subsequent to the revocation, ICDAS sold the subject merchandise at less than NV.

¹ ICDAS requested that the Department consider four review periods in its revocation analysis: 1999-2000, 2000-2001, 2001-2002, and 2002-2003.

In this administrative review, we preliminarily find that ICDAS does not qualify for revocation under 19 CFR 351.222(d), which states:

“The Secretary will not revoke an order or terminate a suspended investigation under paragraphs (b) or (c) of this section unless the Secretary has conducted a review under this subpart of the first and third (or fifth) years of the three- and five-year consecutive time periods referred to in those paragraphs.”

This provision also makes clear that the Department will not revoke an order unless the relevant exports to the United States during each of these time periods were made in commercial quantities.

We preliminarily determine that ICDAS does not qualify for revocation in this review because it has not met the applicable requirements of 19 CFR 351.222(d). First, we note that the Department determined that ICDAS did not have sales in commercial quantities in the 1999-2000 review and, therefore, the Department cannot include this period in its revocation analysis for ICDAS. See 2001-2002 Rebar Review and accompanying decision memorandum at Comment 5. Second, we also note that the 2000-2001 review cannot count as the first of the three years under consideration for ICDAS because the Department did not conduct a review of this time period for ICDAS.² Therefore, because the requirements of 19 CFR 351.222(d) have not been met, we preliminarily find that ICDAS does not qualify for revocation.

² The Department rescinded the 1999-2000 administrative review for ICDAS because it had no entries during that time period. See 2001-2002 Rebar Review and accompanying decision memorandum at Comment 5.

Verification

As provided in section 782(i)(3)(a) of the Act, we verified the sales and cost information provided by ICDAS. We used standard verification procedures, including examination of relevant sales and financial records. Our verification results are outlined in the verification reports placed in the case file in the Central Records Unit, main Commerce building, room B-099.

Comparisons to Normal Value

To determine whether sales of rebar from Turkey were made in the United States at less than NV, we compared the export price (EP) to the NV. Because Turkey's economy experienced significant inflation during the POR, as is Department practice, we limited our comparisons to home market sales made during the same month in which the U.S. sale occurred and did not apply our “90/60” contemporaneity rule (see, e.g., Certain Porcelain on Steel Cookware from Mexico: Final Results of Antidumping Duty Administrative Review, 62 FR 42496, 42503 (Aug. 7, 1997)). This methodology minimizes the extent to which calculated dumping margins are overstated or understated due solely to price inflation that occurred in the intervening time period between the U.S. and home market sales.

When making comparisons in accordance with section 771(16) of the Act, we considered all products sold in the home market as described in the “Scope of the Review” section of this notice, above, that were in the ordinary course of trade for purposes of determining appropriate product comparisons to U.S. sales. Where there were no sales of identical merchandise in the home market made in the ordinary course of trade (i.e., sales within the same month which passed the cost test), we compared U.S. sales to sales of the most similar foreign like product made in the ordinary course of trade, based on the characteristics listed in sections B and C of our antidumping questionnaire, or CV, as appropriate.

Product Comparisons

In accordance with section 771(16) of the Act, we first attempted to compare products produced by the same company and sold in the U.S. and home markets that were identical with respect to the following characteristics: form, grade, size, and ASTM specification. Where there were no home market sales of foreign like product that were identical in these respects to the merchandise sold in the United States, we compared U.S. products with the most similar merchandise sold in the home market based on the characteristics listed above, in that order of priority.

Export Price

For all U.S. sales made by Colakoglu, Diler, and ICDAS, we used EP methodology, in accordance with section 772(a) of the Act, because the subject merchandise was sold directly to the first unaffiliated purchaser in the United States prior to importation and constructed export price methodology was not otherwise warranted based on the facts of record.

A. Colakoglu

We based EP on packed prices to the first unaffiliated purchaser in the United States. We made deductions for inspection fees, lashing and loading expenses, demurrage expenses, overage premium expenses, crane charges (offset by freight commission revenue, wharfage revenue, despatch revenue, demurrage commission revenue, agency fee revenue, attendance fee revenue, and other freight-related revenue), and ocean freight expenses, where appropriate, in accordance with section 772(c)(2)(A) of the Act.

B. Diler

We based EP on packed prices to the first unaffiliated purchaser in the United States. We made deductions for foreign inland freight expenses, brokerage and handling expenses, and loading expenses (including charges for loading supervision), where appropriate, in accordance with section 772(c)(2)(A) of the Act.

C. ICDAS

We based EP on packed prices to the first unaffiliated purchaser in the United States. We made deductions for surveying expenses, customs overtime fees, loading expenses, ocean freight expenses, U.S. customs duties, and U.S. brokerage charges, where appropriate, in accordance with section 772(c)(2)(A) of the Act.

Normal Value

A. Home Market Viability

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(C) of the Act. Based on this comparison, we determined that each respondent had a viable home market during the POR. Consequently, we based NV on home market sales.

For each respondent, in accordance with our practice, we excluded home market sales of non-prime merchandise made during the POR from our preliminary analysis based on the limited quantity of such sales in the home market and the fact that no such sales were made to the United States during the POR. (See, e.g., Final Determinations of Sales at Less Than Fair Value: Certain Hot-Rolled Carbon Steel Flat Products, Certain Cold-Rolled Carbon Steel Flat Products, Certain Corrosion-Resistant Carbon Steel Flat Products, and Certain Cut-to-Length Carbon Steel Plate from Korea, 58 FR 37176, 37180 (July 9, 1993); Certain Steel Concrete Reinforcing Bars From Turkey; Preliminary Results of Antidumping Duty Administrative Review, 67 FR 21634, 21636 (May 1, 2002) (unchanged by the final results); Certain Steel Concrete Reinforcing Bars From Turkey; Final Results of Antidumping Duty Administrative Review, 66 FR 56274 (Nov. 7, 2001) and accompanying decision memorandum at Comment 1 (1999-2000 Rebar Review).

B. Affiliated Party Transactions and Arm's Length Test

Diler and ICDAS made sales of rebar to affiliated parties in the home market during the POR. Consequently, we tested these sales to ensure that they were made at “arm's length” prices, in accordance with 19 CFR 351.403(c). To test whether the sales to affiliates were made at arm's-length prices, we compared the unit prices of sales to affiliated and unaffiliated customers net of all movement charges, direct selling expenses, and packing expenses. Where the price to that affiliated party was, on average, within a range of 98 to 102 percent of the price of the same or comparable merchandise sold to the unaffiliated parties at the same level of trade (LOT), we determined that the sales made to the affiliated party were at arm's length. See Modification Concerning Affiliated Party Sales in the Comparison Market, 67 FR 69186 (Nov. 15, 2002).

C. Cost of Production Analysis

Pursuant to section 773(b)(2)(A)(ii) of the Act, for Colakoglu, Diler, and ICDAS there were reasonable grounds to believe or suspect that these respondents had made home market sales at prices below their COPs in this review because the Department had disregarded sales that failed the cost test for these companies in the most recently completed segment of this proceeding in which these companies participated (i.e., the 2001-2002 administrative review for Colakoglu and ICDAS, and the 1999-2000 administrative review for Diler). As a result, the Department initiated an investigation to determine whether these companies had made home market sales during the POR at prices below their COPs. See 2000-2001 Rebar Review, 67 FR at 66111. See also, 1999-2000 Rebar Review, 66 FR at 56275.

1. Calculation of COP

In accordance with section 773(b)(3) of the Act, we calculated COP based on the sum of the respondents' cost of materials and fabrication for the foreign like product, plus amounts for general and administrative expenses (G&A), and interest expenses. See the “Test of Comparison Market Sales Prices” section below for treatment of home market selling expenses.

As noted above, we determined that the Turkish economy experienced significant inflation during the POR. Therefore, in order to avoid the distortive effect of inflation on our comparison of costs and prices, we requested that each respondent submit the product-specific cost of manufacturing (COM) incurred during each month of the reporting period. We calculated a period-average COM for each product after indexing the reported monthly costs during the reporting period to an equivalent currency level using the Turkish Wholesale Price Index from the International Financial Statistics published by the International Monetary Fund. We then restated the period-average COMs in the currency values of each respective month.

We relied on the COP information Colakoglu and Diler provided in their questionnaire responses. In addition, we relied on the COP information provided by ICDAS, except for the following adjustments:

1. We revised the reported COM for rebar by allocating direct labor, variable overhead, and fixed overhead costs incurred at the rolling mills based on actual time including stoppage.

2. We revised the G&A expense rate calculation as follows:

(a) We excluded the revenue items associated with ICDAS's separate line of business;

(b) we excluded the revenues and expenses not related to the 2002 fiscal year; and

(c) we adjusted the gain on the sale of an asset to an affiliated party to reflect the market price.

3. We revised the interest expense ratio calculation to include the following items: interest expenses, foreign exchange gains, and foreign exchange losses.

For further discussion of these adjustments, see the memorandum from Sheikh M. Hannan to Neal Halper entitled “Cost of Production and Constructed Value Adjustments for the Preliminary Results,” dated April 29, 2004.

2. Test of Home Market Sales Prices

We compared the weighted-average COP figures to home market prices of the foreign like product, as required under section 773(b) of the Act, in order to determine whether these sales had been made at prices below the COP. On a product-specific basis, we compared the COP to home market prices, less any applicable movement charges, selling expenses, and packing expenses.

In determining whether to disregard home market sales made at prices below the COP, we examined whether such sales were made: (1) In substantial quantities within an extended period of time; and (2) at prices which permitted the recovery of all costs within a reasonable period of time. See sections 773(b)(2)(B), (C), and (D) of the Act.

3. Results of the COP Test

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we found that sales of that model were made in “substantial quantities” within an extended period of time (as defined in section 773(b)(2)(B) of the Act), in accordance with section 773(b)(2)(C)(i) of the Act. In such cases, we also determined that such sales were not made at prices which would permit recovery of all costs within a reasonable period of time, in accordance with section 773(b)(2)(D) of the Act. Therefore, for purposes of this administrative review, we disregarded these below-cost sales for ICDAS and Diler and used the remaining sales as the basis for determining NV, in accordance with section 773(b)(1) of the Act.

Regarding Colakoglu, we preliminarily find that this respondent did not make any below-cost sales in substantial quantities during the POR. Therefore, we did not disregard any of Colakoglu's home market sales in determining NV.

D. Level of Trade

In accordance with section 773(a)(1)(B) of the Act, to the extent practicable, we determine NV based on sales in the comparison market at the same LOT as EP. The NV LOT is that of the starting-price sales in the comparison market or, when NV is based on CV, that of the sales from which we derive selling, SG&A, and profit. For EP, the U.S. LOT is also the level of the starting-price sale, which is usually from the exporter to the unaffiliated U.S. customer.

To determine whether NV sales are at a different LOT than EP sales, we examine stages in the marketing process and selling functions along the chain of distribution between the producer and the unaffiliated customer. If the comparison-market sales are at a different LOT and the difference affects price comparability, as manifested in a pattern of consistent price differences between the sales on which NV is based and comparison-market sales at the LOT of the export transaction, we make an LOT adjustment under section 773(a)(7)(A) of the Act.

All respondents claimed that they made home market sales at only one LOT. We analyzed the information on the record for each company and found that two of these respondents, Colakoglu and Diler, performed essentially the same marketing functions in selling to all of their home market and U.S. customers, regardless of customer category (e.g., end-user, distributor). Therefore, we determine that these sales are at the same LOT. We further determine that no LOT adjustment is warranted for these respondents.

Regarding ICDAS, we found that this company performs additional selling functions on certain home market sales. Specifically, we found that ICDAS performs an additional layer of selling functions on its sales through affiliated distributors which are not performed on its sales to unaffiliated customers. Because these additional selling functions are significant, we find that ICDAS's sales through affiliated distributors are at a different LOT than its direct sales to unaffiliated parties. We further find that the LOT for U.S. sales is the same as the home market LOT for ICDAS's direct sales to unaffiliated parties because the selling functions performed by ICDAS are essentially the same in both markets. Consequently, we compared ICDAS's EP sales to sales at the same LOT in the home market (i.e., ICDAS's direct home market sales). For further discussion, see the memorandum entitled “Concurrence Memorandum,” dated April 29, 2004.

E. Calculation of Normal Value

1. Colakoglu

We based NV on the starting prices to home market customers. For those home market sales which were negotiated in U.S. dollars, we used the U.S.-dollar price, rather than the Turkish lira (TL) price adjusted for kur farki (i.e., an adjustment to the TL invoice price to account for the difference between the estimated and actual TL value on the date of payment), because the only price agreed upon was a U.S.-dollar price, and this price remained unchanged; the buyer merely paid the TL-equivalent amount at the time of payment. This treatment is consistent with our treatment of these transactions in the most recently completed segment of this proceeding. See Certain Steel Concrete Reinforcing Bars from Turkey; Preliminary Results of Antidumping Duty Administrative Review and Notice of Intent Not to Revoke in Part, 68 FR 23972, 23977 (unchanged in the final results). Where appropriate, we made deductions from the starting price for foreign inland freight expenses, in accordance with section 773(a)(6)(B) of the Act.

Pursuant to section 773(a)(6)(C)(iii) of the Act and 19 CFR 351.410(c), we made circumstance-of-sale adjustments for credit expenses (offset by interest revenue), commissions, bank charges, other direct selling expenses, and exporter association fees. Although it is the Department's practice to offset commissions paid in only one market with the indirect selling expenses incurred in the other (see, e.g., Notice of Preliminary Determination of Sales at Less Than Fair Value and Postponement of Final Determination: Polyvinyl Alcohol From the Republic of Korea, 68 FR 13681, 13685 (Mar. 20, 2003)), we were unable to do so here because Colakoglu did not report sufficient data to permit such a calculation. However, we have requested that Colakoglu provide this information, and we intend to consider it for purposes of the final results.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using POR-average costs as adjusted for inflation for each month of the POR, as described above.

2. Diler

We based NV on the starting prices to home market customers. For those home market sales which were negotiated in U.S. dollars, we used the U.S.-dollar price, rather than the TL price adjusted for kur farki, because the only price agreed upon was a U.S.-dollar price, and this price remained unchanged. For further discussion, see above. Where appropriate, we made deductions from the starting price for foreign inland freight expenses, in accordance with section 773(a)(6)(B) of the Act.

Pursuant to section 773(a)(6)(C)(iii) of the Act and 19 CFR 351.410(c), we made circumstance-of-sale adjustments for credit expenses (offset by interest revenue), bank fees, and exporter association fees.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using period-average costs as adjusted for inflation for each month of the reporting period, as described above.

3. ICDAS

We based NV on the starting prices to home market customers. For those home market sales which were negotiated in U.S. dollars, we used the U.S.-dollar price, rather than the TL price adjusted for kur farki, because the only price agreed upon was a U.S.-dollar price, and this price remained unchanged. For further discussion, see above.

Pursuant to section 773(a)(6)(C)(iii) of the Act and 19 CFR 351.410(c), we made circumstance-of-sale adjustments for credit expenses, bank charges, and exporter association fees.

We deducted home market packing costs and added U.S. packing costs, in accordance with section 773(a)(6) of the Act.

Where appropriate, we made adjustments to NV to account for differences in physical characteristics of the merchandise, in accordance with section 773(a)(6)(C)(ii) of the Act and 19 CFR 351.411. We based this adjustment on the difference in the variable costs of manufacturing for the foreign like product and subject merchandise, using POR-average costs as adjusted for inflation for each month of the POR, as described above.

Currency Conversion

The Department's preferred source for daily exchange rates is the Federal Reserve Bank. However, the Federal Reserve Bank does not track or publish exchange rates for Turkish Lira. Therefore, we made currency conversions based on exchange rates from the Dow Jones News/Retrieval Service.

Preliminary Results of the Review

We preliminarily determine that the following margins exist for the respondents during the period April 1, 2002, through March 31, 2003:

Manufacturer/producer/exporter | Margin percentage
Colakoglu Metalurji A.S. | 9.33
Diler Demir Celik Endustrisi ve Ticaret A.S., Yazici Demir Celik Sanayi ve Ticaret A.S., and Diler Dis Ticaret A.S. | 0.36
ICDAS Celik Enerji Tersane ve Ulasim Sanayi, A.S. | 0.02

The Department will disclose to parties the calculations performed in connection with these preliminary results within five days of the date of publication of this notice. Interested parties may request a hearing within 30 days of publication. Any hearing, if requested, will be held two days after the date rebuttal briefs are filed. Pursuant to 19 CFR 351.309, interested parties may submit cases briefs not later than 30 days after the date of publication of this notice. Rebuttal briefs, limited to issues raised in the case briefs, may be filed not later than 37 days after the date of publication of this notice. The Department will issue the final results of the administrative review, including the results of its analysis of issues raised in any such written comments, within 120 days of publication of these preliminary results.

Upon completion of the administrative review, the Department shall determine, and CBP shall assess, antidumping duties on all appropriate entries. Pursuant to 19 CFR 351.212(b)(1), because ICDAS reported the entered value of all U.S. sales, we have calculated importer-specific assessment rates based on the ratio of the total amount of antidumping duties calculated for the examined sales to the total entered value of those sales.

Regarding Colakoglu and Diler, we note that these companies did not report the entered value for any of their U.S. sales. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the EPs. Pursuant to 19 CFR 351.106(c)(2), we will instruct CBP to liquidate without regard to antidumping duties any entries for which the assessment rate is de minimis (i.e., less than 0.50 percent). The Department will issue appraisement instructions directly to CBP.

Further, the following deposit requirements will be effective for all shipments of rebar from Turkey entered, or withdrawn from warehouse, for consumption on or after the publication date of the final results of this administrative review, as provided for by section 751(a)(2)(c) of the Act: (1) The cash deposit rates for the reviewed companies will be the rates established in the final results of this review, except if the rate is less than 0.50 percent and, therefore, de minimis within the meaning of 19 CFR 351.106, the cash deposit will be zero; (2) for previously investigated companies not listed above, the cash deposit rate will continue to be the company-specific rate published for the most recent period; (3) if the exporter is not a firm covered in this review, or the less than fair value (LTFV) investigation, but the manufacturer is, the cash deposit rate will be the rate established for the most recent period for the manufacturer of the merchandise; and (4) the cash deposit rate for all other manufacturers or exporters will continue to be 16.06 percent, the all others rate established in the LTFV investigation.

These deposit requirements, when imposed, shall remain in effect until publication of the final results of the next administrative review.

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results of review in accordance with sections 751(a)(1) and 777(i)(1) of the Act.

Dated: April 29, 2004.
James J. Jochum,
Assistant Secretary for Import Administration.

[FR Doc. 04-10232 Filed 5-4-04; 8:45 am]

BILLING CODE 3510-DS-P